DEPARTMENT OF ENERGY

Federal Energy Regulatory Commission

[Docket No. EL02-28-000]

Nevada Power Company and Sierra Pacific Power Company, Complainants, v. Enron Power Marketing, Inc., Respondent; Notice of Complaint

December 5, 2001.

Take notice that on November 30, 2001, Nevada Power Company (NPC) and Sierra Pacific Power Company (SPPC) (collectively, the Nevada companies) filed a complaint requesting that the Commission mitigate unjust and unreasonable prices in sales contracts between NPC and Enron Power Marketing, Inc. (Enron) and between SPPC and Enron entered into in late 2000 and the first half of 2001 for delivery after January 1, 2001.

The Nevada companies request that the Commission set a refund effective date of 60 days from the date of filing of their complaint.

Copies of the Nevada companies' filing were served on Enron and the Public Utility Commission of Nevada.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before December 20, 2001. Protests will be considered by the Commission in determining the appropriate action to be taken, but will not serve to make protestants parties to the proceeding. Any person wishing to become a party must file a motion to intervene. Answers to the complaint shall also be due on or before December 20, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30551 Filed 12-10-01; 8:45 am]

BILLING CODE 6717-01-P